ENVIRONMENTAL PROTECTION AGENCY

40 CFR Parts 51 and 52

[EPA-HQ-OAR-2003-0064, FRL-8773-2]

RIN 2060-AL75

Prevention of Significant Deterioration (PSD) and Nonattainment New Source Review (NSR): Aggregation

AGENCY: Environmental Protection Agency (EPA).

ACTION: Notice of Reconsideration.

SUMMARY: On January 30, 2009, the Natural Resources Defense Council (“NRDC”) submitted a petition for reconsideration (the “NRDC Petition”) of the rule addressing “aggregation” under the Prevention of Significant Deterioration and the Nonattainment New Source Review programs (collectively, “NSR”) published in the Federal Register on January 15, 2009. This rule (the “NSR Aggregation Amendments”) described when a source must combine (“aggregate”) nominally-separate physical changes and changes in the method of operation for the purpose of determining whether they are a single change under NSR and result in a significant emissions increase.

In response to the NRDC Petition, having found that the petitioner has raised objections to the rule that arose after the comment period and that are of central relevance to the rule, the EPA is convening a proceeding for reconsideration as provided for under the Clean Air Act section 307(d)(7)(B). In the near future, EPA will publish a notice in the Federal Register establishing a comment period and a hearing date for this proceeding.

DATES: On February 13, 2009, the EPA hereby convenes a proceeding for reconsideration of the NSR Aggregation Amendments published at 74 FR 2376 (January 15, 2009).

ADDRESSES: Docket: The final rule, the petition for reconsideration, and all other documents in the record for the rulemaking are in Docket ID No. EPA-HQ-OAR-2003-0064. All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air and Radiation Docket and Information Center, EPA/DC, EPA West Building, Room 3334, 1301 Constitution Ave., NW., Washington, DC. The Public Reading Room is open from 8:30 a.m. to 4:30 p.m., Monday through Friday, excluding legal holidays. The telephone number for the Public Reading Room is (202) 566-1744.

FOR FURTHER INFORMATION CONTACT: Mr. David Svendsgaard, Air Quality Policy Division, Office of Air Quality Planning and Standards (C504-03), Environmental Protection Agency, Research Triangle Park, NC 27711, telephone number: (919) 541-2380; fax number: (919) 541-5509, e-mail address: svendsgaard.dave@epa.gov.

Dated: February 9, 2009.
Lisa P. Jackson,
Administrator.

[FR Doc. E9-3174 Filed 2-12-09; 8:45 am]

BILLING CODE 6560-50-P